DEPARTMENT OF THE INTERIOR

National Park Service

Notice of Intent To Prepare an Environmental Impact Statement

AGENCY: National Park Service, Interior.

ACTION: Notice of intent to prepare an environmental impact statement (EIS) for a right-of-way request to cross the Saint Croix National Scenic Riverway (Riverway) with the Arrowhead—Weston Electric Transmission Line Project, Wisconsin.

SUMMARY: In compliance with the National Environmental Policy Act of 1969 (42 U.S.C. 4321 et seq.), the National Park Service (NPS) will prepare an environmental impact statement (EIS) to consider a right-of-way request from Minnesota Power and Wisconsin Public Service Corporation (the Utilities). The Utilities are requesting the right-of-way in order to cross the Namekagon River with the Arrowhead-Weston Electric Transmission Line Project.

The Arrowhead-Weston Electric Transmission Line Project is a proposed 345-kilovolt (kV) bulk electric transmission line that would reach 220 miles from the Arrowhead Substation near Duluth, Minnesota to the Weston Substation near Wausau, Wisconsin. According to the applicants, the purpose of the project is to strengthen the bulk transmission system by providing a second high-capacity connection across the Wisconsin-Minnesota transmission interface. The Public Service Commission of Wisconsin, the State Agency with regulatory authority for the overall project, approved the routing for the line in late 2001. The Utilities are now seeking other necessary permits from Federal, State and local agencies.

The State-approved route for the Arrowhead-Weston Project crosses the Namekagon River in Stinnett Township, approximately 10 river miles west of Hayward, Wisconsin. The Namekagon River is part of the Riverway, which is administered by the NPS. The Utilities need a right-of-way permit from the NPS to cross the Riverway. The Utilities propose to cross at an existing 161-kV transmission line easement granted to Xcel Energy by private landowners prior to NPS land acquisition in the area. The span of the transmission line that would be within the Riverway boundary is 4500 feet.

The EIS will consider a range of alternatives for the crossing including a double-circuit single overhead transmission line combined with the existing 161-kV line, undergrounding the existing 161kV with the proposed 345-kV line built overhead, undergrounding the 345-kV line with the 161-kV line built overhead, and undergrounding both lines. Depending on the alternative, an additional 10-55 feet of right-of-way would be required on the eastside of the existing transmission line easement. A no action alternative will be included to provide a baseline of existing conditions against which to compare the impacts of the action alternatives. An additional alternative will be considered that would go around the Namekagon River to the east in order to disclose the potential impacts should the right-of-way request be denied. Since the NPS has no authority to require such a route, this alternative will be explored in a general, rather than site specific, sense.

The Riverway was designated under the Wild and Scenic Rivers Act in 1968 (Public Law 90-542, as amended; 16 U.S.C. 1271-1287) to protect its free-flowing quality and its outstanding natural, scenic, aesthetic, cultural, and recreational values. The EIS will analyze the impacts of each alternative on natural and cultural resources, scenic values, recreation use, and social and economic resources. Major issues to be addressed in the EIS will include the impact of the proposed crossing on scenic values and the visitor experience. The responsible NPS manager must determine whether or not the proposed action could lead to impairment of park resources and values. The information presented in the EIS will be used to reach a decision about the right-of-way request.

Additional issues to be addressed in the EIS may be identified during the scoping process. Federal, State, local agencies, and individuals or organizations are invited to participate in the scoping process. The scoping process will include the identification of potential issues, the identification of potential impact topics and topics to be analyzed in depth, and the determination of potential cooperating agencies and assignment of responsibilities.

DATES: A public scoping meeting in an open house format will be held in the Hayward area in early fall. Public notice of the open house will be made in the local press. The public is encouraged to attend the scoping meeting and send written comments and suggestions concerning preparation of the EIS to Mr. Thomas Bradley, Superintendent, Saint Croix National Scenic Riverway, PO Box 708, 401 Hamilton Street, Saint Croix Falls, Wisconsin 54024. The NPS will accept comments at this address at any time during the EIS process. However, to facilitate timely identification of issues and impact topics to be addressed in the EIS, the NPS recommends that initial comments be submitted by November 1, 2002.

Our practice is to make comments, including names and home addresses of respondents, available for public review. Individual respondents may request we withhold their home address from the record, which we will honor to the extent allowable by law. There may also be circumstances where we would withhold from the record a respondent's identity, as allowable by law. If you wish us to withhold your name and/or address, you must state this prominently at the beginning of your comment. However, we will not consider anonymous comments. We will make all submissions from organizations or businesses, and from individuals identifying themselves as representatives, officials, organizations, or businesses, available for public inspection in their entirety.

FOR FURTHER INFORMATION CONTACT: Ms. Jill Medland, Compliance Specialist, Saint Croix National Scenic Riverway, PO Box 708, 401 Hamilton Street, Saint Croix Falls, Wisconsin 54024, telephone 715-483-3284, Extension 609.

Dated: September 4, 2002.
William W. Schenk,
Regional Director, Midwest Region.

[FR Doc. 02-24066 Filed 9-20-02; 8:45 am]

BILLING CODE 4310-70-P